DEPARTMENT OF TRANSPORTATION

Federal Aviation Administration

Proposed Advisory Circular: Type Certification of an Airplane Originally Certificated to Joint Aviation Regulations—Very Light Airplane (JAR-VLA) Standards

AGENCY: Federal Aviation Administration (FAA), DOT.

ACTION: Notice of availability; request for comments.

SUMMARY: This notice announces the availability of and requests comments on a proposed AC, which provides information and guidance concerning type certification of a Joint Aviation Regulations—Very Light Airplane. This notice is necessary to give all interested persons an opportunity to present their views on the proposed AC.

DATES: Comments must be received on or before April 7, 2003.

ADDRESSES: Send all comments on the proposed AC to: Mr. Pat Mullen, Federal Aviation Administration, Small Airplane Directorate, Aircraft Certification Service, Standards Office (ACE-110), 901 Locust, Room 301, Kansas City, Missouri 64106.

FOR FURTHER INFORMATION CONTACT: Mr. Pat Mullen, telephone (816) 329-4128 or fax (816) 329-4090.

SUPPLEMENTARY INFORMATION:

Comments Invited

Interested persons are invited to comment on the proposed AC by submitting such written data, views, or arguments as they may desire. Commenters should identify AC 23-11A and submit comments, in duplicate, to the address specified above. All communications received on or before the closing date for comments will be considered by the Small Airplane Directorate before issuing the final AC. The proposed AC can be found and downloaded from the Internet at http://www.airweb.faa.gov/DraftAC by taking the following steps: Under “Search Help” click on “Open for Comment.” A paper copy of the proposed AC may be obtained by contacting the person named above under the caption FOR FURTHER INFORMATION CONTACT.

Discussion

The subject advisory circular describes one way to show compliance to Title 14 of the Code of Federal Regulations part 23 for type certification of Joint Aviation Regulations—Very Light Airplanes if the type certification will be for either a part 23 Normal or Utility Category Type Certificate or a “special class” airplane, following § 21.17(b).

Material in the AC is neither mandatory nor regulatory in nature and does not constitute a regulation. In addition, the material is not to be construed as having any legal status and should be treated accordingly.

Issued in Kansas City, Missouri on January 28, 2003.
Michael Gallagher,
Manager, Small Airplane Directorate, Aircraft Certification Service.

[FR Doc. 03-2525 Filed 2-3-03; 8:45 am]

BILLING CODE 4910-13-P